DEPARTMENT OF THE INTERIOR

Minerals Management Service

Preparation of an Environmental Assessment for TotalFinaElf Exploration and Production USA, Inc.'s (TotalFinaElf) and Williams Field Services—Gulf Coast Company, L.P. (Williams) Pipeline and Platform Applications (Canyon Express and Canyon Station Pipeline Applications)

AGENCY: Minerals Management Service, Interior.

ACTION: Preparation of an environmental assessment.

SUMMARY: The Minerals Management Service (MMS) is preparing an environmental assessment (EA) for a proposed deepwater development plan to develop and produce hydrocarbon reserves about 70 miles offshore Louisiana and 107 miles directly south of Alabama in Mississippi Canyon Block 348 (Camden Hills Prospect), Mississippi Canyon Block 305 (Aconcagua Prospect), and DeSoto Canyon Blocks 133 and 177 (Kings Peak Prospect; in Eastern Planning Area).

FOR FURTHER INFORMATION CONTACT: Minerals Management Service, Gulf of Mexico OCS Region, 1201 Elmwood Park Boulevard, New Orleans, Louisiana 70123-2394, Mr. Alvin Jones, telephone (504) 736-1713.

SUPPLEMENTARY INFORMATION: This EA implements the tiering process outlined in 40 CFR 1502.20, which encourages agencies to tier environmental documents, eliminating repetitive discussions of the same issue. By use of tiering to the most recent final environmental impact statement (EIS) for the Gulf of Mexico Central Planning Area for Lease Sales 169, 172, 175, 178, and 182 and by referencing related environmental documents, this EA concentrates on environmental issues specific to the proposed action.

The MMS GOM Region received a Pipeline Right-of-Way (ROW) Application that proposes to construct, maintain, operate, and transport hydrocarbon reserves located in Mississippi Canyon Blocks 348, 305, and 217 and DeSoto Canyon Blocks 133 and 177. The Region also received a Right-of-Use and Easement Application for a hydrocarbon processing platform, which will receive production from the Camden Hills, Aconcagua, and Kings Peak Prospects and four exporting lines in Main Pass Block 261. The combined Applications are referred to as the Canyon Express/Station Pipeline Project. TotalFinaElf will complete and produce 10 wells that were drilled under previously approved Exploration Plans for the subject blocks. Williams' proposed platform would receive those hydrocarbon resources and export to existing pipelines. No new drilling operations are proposed as a part of this project.

The Canyon Express portion, a ROW Application consists of 28 ROW and lease-term pipeline segments. The lengths of pipeline segments range from 60 feet to over 55 miles. The water depth ranges from 7,216 feet in Mississippi Canyon Block 348 to 299 feet at the platform (“JP”) in Main Pass Block 261. Portions of the proposed Canyon Express pipelines are in (adjacent to the western flank of) the Eastern Planning Area. TotalFinaElf will use a support base located in Fourchon, Louisiana, to support pipelaying activities associated with the Canyon Express Project.

Condensate and gas produced at the Camden Hills, Aconcagua, and Kings Peak Prospects will be transported to the proposed Platform in Main Pass Block 261.

The Canyon Station portion, a Right-of-Use and Easement Application consists of a processing platform and four exporting pipelines all within the Central Planning Area. The water depth of the four departing pipelines range from 282 to 307 feet. The average length of the four exporting pipelines is 1.12 miles. The four exporting pipelines will terminate at subsea tie-in points on existing pipelines within Main Pass Block 261. Williams will initially use a support base in Venice, Louisiana, and switch operations to Mobile, Alabama, once production commences.

The proposed action analyzed in the EA will be the development plan as proposed by TotalFinaElf and Williams. Alternatives will include the proposed action with additional mitigations and no action (i.e., disapproval of the plan). The analyses in the EA will examine the potential environmental effects of the proposal and alternatives.

Public Comments

The MMS requests interested parties to submit comments regarding issues that should be addressed in the EA to Minerals Management Service, Gulf of Mexico OCS Region, Office of Leasing and Environment, Attention: Regional Supervisor (MS 5400), 1201 Elmwood Park Boulevard, New Orleans, Louisiana 70123-2394. Comments must be submitted no later than 30 days from the publication date of this Notice.

Dated: June 7, 2001.
Chris C. Oynes,
Regional Director, Gulf of Mexico OCS Region.

[FR Doc. 01-15458 Filed 6-19-01; 8:45 am]

BILLING CODE 4310-MR-U